DEPARTMENT OF TRANSPORTATION

Federal Aviation Administration

Notice of Intent To Release Airport Property for Non-Aeronautical Use; Plymouth Municipal Airport, Plymouth, MA

AGENCY: Federal Aviation Administration (FAA), DOT.

ACTION: Request for comments.

SUMMARY: The Federal Aviation Administration is considering a proposal to release of two parcels of approximately 27.3 acres of airport property for non-aeronautical use at the Plymouth Municipal Airport, Plymouth, MA. The released parcels would serve as part of the mitigation for an Army Corps of Engineers conservation project. The airport acreage to be released is currently used as a buffer zone and is not needed for current and future airport development. In exchange, the Airport would receive 41.5 acres of land that would be used for conservation. In accordance with section 47107(h) of Title 49 of the United States Code, the FAA invites public comment on this proposal.

DATES: Comments must be received on or before February 23, 2015.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE., Washington, DC 20590.

• Hand Delivery: Deliver to Mail address above between 9 a.m. and 5 p.m., Monday through Friday, except Federal holidays.

FOR FURTHER INFORMATION CONTACT: Thomas Vick, Compliance and Land Use Specialist, New England Region Airports Division, 12 New England Executive Park, Burlington, MA 01803. Telephone: 781-238-7618; Fax 781-238-7608.

SUPPLEMENTARY INFORMATION: In accordance with the Wendell H. Ford Aviation Investment and Reform Act for the 21st Century (AIR 21), Public Law 106-181 (Apr. 5, 2000; 114 Stat. 61), this notice must be published in the Federal Register not less than 30 days before the Secretary may waive any condition imposed on a federally obligated airport by grant agreements. The FAA invites public comment on the request, under the provisions of AIR 21, to release land at the Plymouth Municipal Airport from its federal obligations.

The Plymouth Municipal has requested to release approximately 27.3 acres of airport land from federal obligations and to exchange that land with approximately 41.5 acres of land, which includes 13.39 acres improved by a 3.87 acre producing cranberry bog system currently owned by the Piney Wood Cranberry Co., Inc. The 27.3 acres to be released was purchased by the Airport as part of the land acquisition site for future airport development located in the Town of Plymouth, MA. That parcel are made up of portions of parcels 17 and 18A as shown on the Exhibit A of the Plymouth Municipal Airport date March 2011. Parcel 17 is recorded in the Plymouth Registry of Deeds, Book 4907, pages 283-2. Parcel 18A is recorded in the Plymouth Registry of Deeds, Book 5607, page 395.

The Airport no longer needs these parcels for future aeronautical use. In exchange, the airport will acquire 41.5 acres of land for conservation. The parcel to be acquired is identified as Town of Plymouth, Plymouth County Registry of Deeds, Book 3099, page 406.

The Airport completed a Real Estate Appraisal Report and Review Appraisal for the parcels. The appraisal was conducted in accordance with the Uniform Standards of Professional Appraisal Practice (USPAP). The appraisal concludes that the Plymouth Municipal Airport will receive fair market value for the land that it is releasing in this proposed land release and property exchange. In accordance with section 47107(h) of Title 49 of the United States Code, the FAA invites public comment on this proposal.

Issued in Burlington, Massachusetts, December 15, 2014.
Bryon H. Rakoff,
Deputy Manager, Airports Division.

[FR Doc. 2015-01213 Filed 1-22-15; 8:45 am]

BILLING CODE 4910-13-P